OFFICE OF THE UNITED STATES TRADE REPRESENTATIVE

Determination Regarding Waiver of Discriminatory Purchasing Requirements With Respect to Goods and Services Covered by Chapter 9 of the U.S.-Chile Free Trade Agreement

AGENCY: Office of the United States Trade Representative.

ACTION: Determination under Trade Agreements Act of 1979.

EFFECTIVE DATE: January 1, 2004.

FOR FURTHER INFORMATION CONTACT: Jean Heilman Grier, Senior Procurement Negotiator, Office of the United States Trade Representative, (202) 395-9476, or Theodore R. Posner, Assistant General Counsel, Office of the United States Trade Representative, (202) 395-9512.

On June 6, 2003, the United State and Chile entered into the United States-Chile Free Trade Agreement (“the USCFTA”). Chapter 9 of the USCFTA sets forth certain obligations with respect to government procurement of goods and services, as specified in Annex 9.1 of the USCFTA.

On September 3, 2003, the President signed into law the United States-Chile Free Trade Agreement Implementation Act (“the USCFTA Act”) (Pub. L. No. 108-77, 117 Stat. 909) (19 U.S.C. 3805 note). In section 101(a) of the USCFTA Act, the Congress approved the USCFTA and the statement of administrative action proposed to implement the USCFTA that the President submitted to the Congress.

Section 1-201 of Executive Order 12260 of December 31, 1980 (46 FR 1653) delegated the functions of the President under sections 301 and 302 of the Trade Agreements Act of 1979 (“the Trade Agreements Act”) (19 U.S.C. 2511, 2512) to the United States Trade Representative.

Now, therefore, I, Robert B. Zoellick, United States Trade Representative, in conformity with the provisions of sections 301 and 302 of the Trade Agreements Act, and Executive Order 12260, and in order to carry out U.S. obligations under Chapter 9 of the USCFTA, do hereby determine effective on January 1, 2004, that:

1. Chile is a country, other than a major industrial country, which, pursuant to the USCFTA, will provide appropriate reciprocal competitive government procurement opportunities to United States products and suppliers of such products. In accordance with section 301(b)(3) of the Trade Agreements Act, Chile is so designated for purposes of section 301(a) of the Trade Agreements Act.

2. With respect to eligible products of Chile (i.e., goods and services covered by the Schedules of the United States in Annex 9.1 of the USCFTA) and suppliers of such products, the application of any law, regulation, procedure, or practice regarding government procurement that would, if applied to such products and suppliers, result in treatment less favorable than that accorded—

(A) To United States products and suppliers of such products; or

(B) To eligible products of another foreign country or instrumentality which is party to the Agreement on Government Procurement referred to in section 101(3)(17) of the Uruguay Round Agreements Act (19 U.S.C. 3511(d)(17)) and suppliers of such products, shall be waived.

This waiver shall be applied by all entities listed in the Schedule of the United States to Section A of Annex 9.1 of the USCFTA, and in list A of the Schedule of the United States to Section C of Annex 9.1 of the USCFTA.

3. The designation in paragraph 1 and the waiver in paragraph 2 are subject to modification or withdrawal by the United States Trade Representative.

Dated: December 16, 2003.
Robert B. Zoellick,
United States Trade Representative.

[FR Doc. 03-31372 Filed 12-18-03; 8:45 am]

BILLING CODE 3190-W3-M